DEPARTMENT OF STATE

[Public Notice: 8769]

Public Meeting on the Renewal of the Charter of the U.S. International Telecommunications Advisory Committee

AGENCY: Department of State.

ACTION: Notice of public meeting.

SUMMARY: The Department of State (Department) will hold a public meeting to discuss the rechartering of the International Telecommunications Advisory Committee (ITAC), a Department federal advisory committee. This notice announces the meeting and provides the agenda.

DATES: The public meeting will be held on June 30, 2014, at 2 p.m. ET in Room 4835, Harry S Truman Building, 2201 C Street NW., Washington DC (please note pre-clearance instructions below). Written comments will be received until July 7, 2014.

FOR FURTHER INFORMATION CONTACT: Paul Najarian, najarianpb@state.gov 202-647-7847.

SUPPLEMENTARY INFORMATION: The Department is considering the renewal of the ITAC charter; and, to assist in this process, we will hold a public meeting to discuss the operation of the ITAC and suggestions on making it a more effective avenue for providing advice to the Department. The current ITAC charter (which expires on August 9, 2014) can be found at http://facadatabase.gov/download.aspx?fn=Charters/1846_2014.03.25_United States International Telecommunication Advisory Committee Charter_(2014-03-25-11-22-20).pdf.

The public meeting will provide a forum for the public, including interested stakeholders, to provide views on whether the ITAC should be rechartered, and suggestions on possible restructuring of the committee. We especially invite comment on the following questions:

1. How frequently should the ITAC meet and where?

2. Should there be a phone bridge for ITAC meetings?

3. The Federal Advisory Committee Act requires the membership of the advisory committee to be fairly balanced in terms of the points of view represented and the functions to be performed by the advisory committee. Individuals representing themselves cannot be members of a Federal Advisory Committee.

a. What should the Department consider when naming representatives of entities to the ITAC?

b. Should the Department limit the number of members of the ITAC? Note: ITAC meetings are open to the public.

4. The Department established an email list as a convenient means of communicating with regard to the ITAC.

a. Should the Department continue using the email list?

b. Should members of the list be able to transmit email to the list, or should it be “read only” for the list members?

c. What types of communication on an email list would help advance the work of the advisory committee?

d. What is inappropriate use of the email list and how should the Department address it?

This meeting is open to public participation, though seating is limited. Entry to the building is controlled. To obtain pre-clearance for entry, a member of the public planning to attend should provide, by June 24, 2014, his or her name; valid government-issued ID number (i.e., U.S. Government ID, U.S. military ID, passport, or drivers license); date of birth; and citizenship, to Paul Najarian, najarianpb@state.gov 202-647-7847. All persons wishing to attend the meeting must use the 23rd Street entrance of the Harry S Truman Building. Because of escorting requirements, non-Government attendees should plan to arrive 15 minutes before the meeting begins. Requests for reasonable accommodation, including requests for a phone bridge, should be made to Paul Najarian before June 24th. Requests made after that date will be considered, but might not be possible to fulfill.

Personal data is requested pursuant to Pub. L. 99-399 (Omnibus Diplomatic Security and Antiterrorism Act of 1986), as amended; Pub. L. 107-56 (USA PATRIOT Act); and Executive Order 13356. The purpose of the collection is to validate the identity of individuals who enter Department facilities. The data will be entered into the Visitor Access Control System (VACS-D) database. Please see the Security Records System of Records Notice (State-36) at http://www.state.gov/documents/organization/103419.pdf for additional information.

Dated: June 16, 2014.
Julie N. Zoller,
Senior Deputy Coordinator, International Communication & Information Policy, Designated Federal Officer, ITAC.

[FR Doc. 2014-14503 Filed 6-19-14; 8:45 am]

BILLING CODE 4710-07-P